DEPARTMENT OF HOMELAND SECURITY

Federal Emergency Management Agency

Agency Information Collection Activities: Proposed Collection; Comment Request

AGENCY: Federal Emergency Management Agency, DHS.

ACTION: Notice; 60-day notice and request for comments; revision of a currently approved collection, OMB No. 1660-0044, FEMA Form 95-56.

SUMMARY: The Federal Emergency Management Agency (FEMA), as part of its continuing effort to reduce paperwork and respondent burden, invites the general public and other Federal agencies to take this opportunity to comment on a proposed continuing information collection. In accordance with the Paperwork Reduction Act of 1995, this notice seeks comments concerning the need to conduct a continuous evaluation of emergency management training programs as it relates to the knowledge and skills gained by participants through various courses.

SUPPLEMENTARY INFORMATION: Title 44 CFR part 360 implements the Emergency Management Training Program, designed to increase States' emergency management capabilities through training of personnel with responsibilities over preparedness, response, and recovery from all types of disasters. The Robert T. Stafford Disaster Relief and Emergency Assistance Act (Pub. L. 93-288) as amended, authorizes training programs for emergency preparedness for State, local and tribal government personnel. In response to the Government Performance and Results Act (GPRA), the information obtained from the Emergency Management Institute “Follow-up Evaluation Survey,” will be a follow-up tool used to evaluate the knowledge and/or skills participants obtained at EMI during training courses, and to improve Emergency Management Institute courses. The information is critical to determine if the Emergency Management Institute is meeting strategic goals and objectives established by FEMA in order to fulfill its mission.

Collection of Information

Title: Emergency Management Institute Follow-up Evaluation Survey.

Type of Information Collection: Revision of a currently approved collection.

OMB Number: 1660-0044.

Form Numbers: FEMA Form 95-56, Follow-Up Evaluation Survey.

Abstract: FEMA Form 95-56 is a continuous self-assessment qualitative tool used to identify trainees' knowledge and skills gained through emergency management-related courses and the extent to which they have been beneficial and applicable in the conduct of their official positions. The information collected is primarily used to review course content and offerings for program planning and management purposes. Results are combined with other program metrics to document performance per GPRA mandates.

Affected Public: Individuals or households, State, local or tribal governments.

Estimated Total Annual Burden Hours: 950 burden hours.

Annual Hour Burden
Data collection activity/instrument | Number of respondents (A) | Frequency of responses (B) | Hour burden per response (C) | Annual responses (D) = (A × B) | Total annual burden hours (C × D)
FF 95-56 | 3800 | 1 | .25 | 3800 | 950
Total |  |  |  | 3800 | 950

Estimated Cost: The estimated annualized cost to respondents based on wage rate categories is estimated to be $22,344 annually. The estimated annual cost to the Federal Government is $26,480.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before June 27, 2008.

ADDRESSES: Interested persons should submit written comments to Office of Management, Records Management Division, Federal Emergency Management Agency, 500 C Street, SW., Washington, DC 20472, Mail Drop Room 301, 1800 S. Bell Street, Arlington, VA 22202.

FOR FURTHER INFORMATION CONTACT: Contact Jennifer Ogle, Training Specialist, Emergency Management Institute, (301) 447-1585 for additional information. You may contact the Records Management Branch for copies of the proposed collection of information at facsimile number (202) 646-3347 or e-mail address: FEMA-Information-Collections@dhs.gov.

Dated: April 21, 2008.
John A. Sharetts-Sullivan,
Director, Records Management Division, Office of Management, Federal Emergency Management Agency, Department of Homeland Security.

[FR Doc. E8-9238 Filed 4-25-08; 8:45 am]

BILLING CODE 9110-17-P